DEPARTMENT OF HEALTH AND HUMAN SERVICES

National Institutes of Health

National Institute of Mental Health; Amended Notice of Meeting

Notice is hereby given of a change in the meeting of the National Institute of Mental Health Special Emphasis Panel, October 20, 2005, 8:30 a.m. to October 21, 2005, 3 p.m., Holiday Inn Select Bethesda, 8120 Wisconsin Ave., Bethesda, MD, 20814 which was published in the Federal Register on September 9, 2005, 70 FR 53674-53675.

The dates and times of the meeting are the same but the location has changed to the Marriott Bethesda Suites, 6711 Democracy Boulevard, Bethesda, MD. The meeting is closed to the public.

Dated: September 30, 2005.
Anthony M. Coelho, Jr.,
Acting Director, Office of Federal Advisory Committee Policy.

[FR Doc. 05-20249 Filed 10-6-05; 8:45 am]

BILLING CODE 4140-01-M